COMMITTEE FOR PURCHASE FROM PEOPLE WHO ARE BLIND OR SEVERELY DISABLED

Procurement List; Proposed Additions

AGENCY: Committee for Purchase from People Who Are Blind or Severely Disabled.

ACTION: Proposed additions to procurement list.

SUMMARY: The Committee is proposing to add to the Procurement List services to be furnished by nonprofit agencies employing persons who are blind or have other severe disabilities.

Comments must be received on or before: May 11, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the proposed actions. If the Committee approves the proposed additions, the entities of the Federal Government identified in the notice for each service will be required to procure the services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services are proposed for addition to Procurement List for production by the nonprofit agencies listed:

Services

Service Type/Location: Custodial Service

Federal Building #2, Food Court

Federal Building #2, Five Star Expresso Coffee Bar

Pentagon Building, Au Bon Pair

Pentagon Building, B.C Cafe

Pentagon Building, Common area restrooms

Pentagon Building, Corridor 1 Food Court

Pentagon Building, Corridor 10 Food Court

Pentagon Building, Corridor 9/10 Apex, Five Star Expresso Coffee Bar

Pentagon Building, Grease and Garbage Room

Pentagon Building, Loading dock, 1st Floor, Wedge 1

Pentagon Building, Pentagon Dining Room and Kitchen

Pentagon Building, Production Kitchen

Pentagon Building, Wedge 1 Food Court

Pentagon Building, Common area stairs and corridors, 1st Floor, 2nd Floor, 3rd Floor Washington, DC

NPA: The Chimes, Inc., Baltimore, Maryland

Contract Activity: Navy Exchange Service Command, NEXCOM, Virginia Beach, Virginia

Service Type/Location: Grounds Maintenance USDA, Forest Service Office, Beaverhead-Deerlodge National Forest, Butte, Montana

NPA: BSW, Inc., Butte, Montana

Contract Activity: USDA-US Forest Service, Butte, Montana

Service Type/Location: Installation Support Services, Fort Hood, Texas

NPA: Training, Rehabilitation, & Development Institute, Inc., San Antonio, Texas

Contract Activity: III Corps and Fort Hood Contracting Command, Fort Hood, Texas Service Type/Location: Janitorial/Custodial Armed Forces Reserve Center, Yakima, Washington

NPA: Yakima Specialties, Inc., Yakima, Washington

Contract Activity: Naval Facilities Engineering Command—Everett, Everett, Washington

Service Type/Location: Janitorial/Custodial U.S. Geological Survey, Klamath Field Office, Klamath Falls, Oregon

NPA: Klamath County Mental Health, Klamath Falls, Oregon

Contract Activity: U.S. Geological Survey, Sacramento, California

Service Type/Location: Operation of Masking/Taping Service Tobyhanna Army Depot, Tobyhanna, Pennsylvania

NPA: Burnley Workshop of the Poconos, Stroudsburg, Pennsylvania

Contract Activity: Tobyhanna Army Depot, Tobyhanna, Pennsylvania

G. John Heyer,
General Counsel.

[FR Doc. 03-8931 Filed 4-10-03; 8:45 am]

BILLING CODE 6353-01-P